DEPARTMENT OF THE INTERIOR

National Park Service

Schedule of Wekiva River System Advisory Management Committee Meetings

AGENCY: National Park Service, Department of the Interior.

ACTION: Notice of upcoming scheduled meetings.

SUMMARY: This notice announces a schedule of upcoming meetings for the Wekiva River System Advisory Management Committee.

DATES: The meetings are scheduled for: February 7, 2007, April 3, 2007, June 6, 2007, August 7, 2007, October 3, 2007 and December 4, 2007.

Time: All scheduled meetings will begin at 6 p.m.

ADDRESSES: All scheduled meetings will be held at Sylvan Lake Park, 845 Lake Markham Rd, Sanford, FL 32771. Sylvan Lake Park is located off Interstate 4 at Exit 51 (SR 46). Take SR 46 West to Lake Markham Rd. Turn left on Lake Markham Rd. and continue one mile to Sylvan Lake Park on the left. Call (407) 322-6567 or visit http://www.seminolecountyfl.gov/11s/parks/parkInfo.asp?id=20 for additional information on this facility.

FOR FURTHER INFORMATION CONTACT: Jamie Fosburgh, Rivers Program Manager, Northeast Region, 15 State Street, Boston, MA 02109, tel. (617) 223-5191.

SUPPLEMENTARY INFORMATION: The scheduled meetings will be open to the public. Each scheduled meeting will result in decisions and steps that advance the Wekiva River System Advisory Management Committee towards its objective of developing a comprehensive General Management Plan for the Wekiva Wild and Scenic River. Any member of the public may file with the Committee a written statement concerning any issues relating to the development of the General Management Plan for the Wekiva Wild and Scenic River. The statement should be addressed to the Wekiva River System Advisory Management Committee, National Park Service, 15 State Street, Boston, MA 02109.

The Wekiva River System Advisory Management Committee was established by Public Law 106-299 to assist in the development of the comprehensive management plan for the Wekiva River System and provide advice to the Secretary in carrying out management responsibilities of the Secretary under the Wild and Scenic River Act (16 U.S.C. 1274). Efforts have been made locally to ensure that the interested public is aware of the meeting dates. However, due to unanticipated technical problems, the National Park Service was unable to publish this Federal Register notice more than 15 days in advance of the February 7 meeting. Rescheduling the meeting would create an unnecessary burden for members of the public who have already arranged their schedules around that date.

Dated: January 30, 2007.
Bernard C. Fagan,
Acting Chief, NPS Office of Policy.

[FR Doc. 07-530 Filed 2-6-07; 8:45 am]

BILLING CODE 4312-52-M